DEPARTMENT OF HOMELAND SECURITY

U.S. Citizenship and Immigration Services

[CIS No. 2413-07; DHS Docket No. USCIS-2007-0031]

RIN 1615-ZA52

Making Participation in the DORA Pilot Program Optional for Form I-485 Applicants

AGENCY: U.S. Citizenship and Immigration Services, DHS.

ACTION: Notice.

SUMMARY: This Notice modifies U.S. Citizenship and Immigration Services' District Office Rapid Adjudication (DORA) pilot program so that participation is optional rather than mandatory. The pilot program is open to certain aliens residing in the jurisdiction of the Dallas, El Paso, or Oklahoma City offices seeking to file Form I-485, Application to Register Permanent Residence or Adjust Status, with U.S. Citizenship and Immigration Services.

DATES: This Notice is effective June 21, 2007 and will terminate on September 21, 2007.

FOR FURTHER INFORMATION CONTACT: Kristie Krebs, Adjudications Officer, U.S. Citizenship and Immigration Services, Department of Homeland Security, 20 Massachusetts Avenue, NW., Suite 1000, Washington, DC 20526, Telephone (202) 272-1001.

SUPPLEMENTARY INFORMATION:

I. Background

In September 2006, U.S. Citizenship and Immigration Services (USCIS) announced the participation requirements for the District Office Rapid Adjudication (DORA) pilot program. See 71 FR 55206 (Sept. 21, 2006). This program pilots an alternate procedure for the filing and processing of Form I-485, Application to Register Permanent Residence or Adjust Status. The purpose of the pilot program is to test whether alternate filing procedures will result in reduced Form I-485 processing times.

The DORA pilot program applies to certain Form I-485 applicants residing within the jurisdiction of the Dallas District Office, El Paso District Office, or Oklahoma City Sub-Office. See 71 FR at 55206-55207 for eligibility and residence requirements. These applicants only may file Form I-485 by appearing in person at the appropriate USCIS local office after self-scheduling an appointment using Internet-based InfoPass. If the application package is complete at the time of filing, a USCIS officer will conduct any required interview on the same day and will schedule the applicant for biometrics capture. By contrast, normal Form I-485 filing procedures require applicants to mail-in their Form I-485 application package to the Chicago Lockbox Facility and await receipt of an appointment notice from USCIS for both biometrics capture and an interview. See Direct Mail Instructions for filing Form I-485.

II. Change to Pilot Program

Under this Notice, eligible applicants are no longer required to participate in the DORA pilot program. Instead, such applicants may choose either to file the Form I-485 package under the DORA pilot program or mail the package pursuant to the Direct Mail Instructions for Form I-485. USCIS is making participation in the DORA pilot program optional for these Form I-485 applicants because of the recent increase in demand for available Infopass appointments. As a result of this increase, Infopass users are waiting an average of three weeks before getting an appointment to appear at a USCIS office. USCIS believes that this increase is a result of a rulemaking in which USCIS proposed to increase the fees on applications and petitions. See 72 FR 4888 (Feb. 1, 2007). Optional filing will accommodate eligible applicants who wish to file their Form I-485 application package immediately by mail under the current fee schedule, rather than wait for an Infopass appointment to file in person under the DORA pilot program and potentially be subject to higher application fees. USCIS will post the optional filing procedures under the DORA pilot program on the Web pages for the Dallas, El Paso, and Oklahoma City offices, accessible from http://www.uscis.gov.

III. Paperwork Reduction Act

Under the Paperwork Reduction Act of 1995, Public Law 104-13, 109 Stat. 163 (1995), all Departments are required to submit to the Office of Management and Budget (OMB), for review and approval, any reporting or recordkeeping requirements. This Notice will not increase the burden for those applicants in the Dallas, El Paso, and Oklahoma City offices, as filing under the pilot program is optional.

Dated: June 5, 2007.
Emilio T. Gonzalez,
Director, U.S. Citizenship and Immigration Services.

[FR Doc. E7-11989 Filed 6-20-07; 8:45 am]

BILLING CODE 4410-10-P